DEPARTMENT OF HOUSING AND URBAN DEVELOPMENT

[Docket No. FR-5376-N-121]

Notice of Submission of Proposed Information Collection to OMB; Emergency Comment Request; Housing Opportunities for Persons With AIDS (HOPWA) Program: Annual Performance Reporting Requirements and Competitive/Renewal Grant Budget Summary Forms Notice of Proposed Information Collection for Public Comment

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: December 28, 2010.

ADDRESSES: Interested persons are invited to submit comments regarding this proposal. Comments must be received within seven (14) days from the date of this Notice. Comments should refer to the proposal by name/or OMB approval number (2506-0133) and should be sent to: Ross A. Rutledge, HUD Desk Officer, Office of Management and Budget, New Executive Office Building, Washington, DC 20503; e-mail: Ross_A._Rutledge@omb.eop.gov; fax: 202-395-6974.

FOR FURTHER INFORMATION CONTACT: David Vos, Director, Office of HIV/AIDS Housing, U.S. Department of Housing and Urban Development, 451 7th Street, SW., Room 7212, Washington, DC 20410; telephone (202) 402-4620 (this is not a toll-free number). For copies of the proposed forms and other available information.

SUPPLEMENTARY INFORMATION: This Notice informs the public that the U.S. Department of Housing and Urban Development (HUD) has submitted to OMB, for emergency processing, an information collection package with respect to this information is collected on new mortgages offered by FHA approved mortgagees to mortgagors who are at risk of losing their homes to foreclosure through the HOPE for Homeowners Program, and to those who owe more than the value of their homes through the FHA Refinance of Borrowers in Negative Equity Positions. The new FHA insured mortgages refinance the borrowers existing mortgage at a significant writedown. Under the HOPE for Homeowners program the mortgagors share the new equity with FHA.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Housing Opportunities for Persons with AIDS (HOPWA) Program: Annual Performance Reporting Requirements and Competitive/Renewal Grant Budget Summary Forms.

Description of Information Collection: These forms provide HUD with vital information to assess program evaluation and measure performance outcomes for the Housing Opportunities for Persons with AIDS (HOPWA) program. Competitive/Renewal grant recipients submit an Annual Progress Report (APR) and Formula grantees submit the Consolidated Annual Performance and Evaluation Report (CAPER). These annual reports provide HUD with information about program beneficiaries in addition to enabling HUD to assess the success of the HOPWA program through the three performance goals of housing stability, prevention of homelessness, and access to care and support. Information collected in the reports allows HUD to fulfill reporting requirements for internal reporting requirements, the Office of Management and Budget (OMB), and other entities.

OMB Control Number: 2506-0133.

Agency Form Numbers: HUD-40110-B HOPWA Competitive and Renewal of Permanent Supportive Housing Project Budget Summary; HUD-40110-C Annual Progress Report (APR); and HUD-40110-D Consolidated Annual Performance and Evaluation Report (CAPER).

Members of Affected Public: Formula and competitive grant recipients of the Housing Opportunities for Persons with AIDS (HOPWA) program.

Estimation of the total number of hours needed to prepare the information collection including number of respondents, frequency of response, and hours of response: APR (96 respondents and total annual responses × 55 hours per response = 5,280 hours) + CAPER (124 respondents and total annual responses × 40 hours per response = 4,960 hours) + HOPWA Competitive & Renewal of Permanent Supportive Housing Project Budget Summary (35 respondents and total annual responses × 12 hours per response = 420 hours) = 10,660 hours.

Status of the proposed information collection: Revision of currently approved collection.

Authority: The Paperwork Reduction Act of 1995, 44 U.S.C. Chapter 35, as amended.

Dated: December 8, 2010.
Colette Pollard,
Department Reports Management Officer, Office of the Chief Information Officer.

[FR Doc. 2010-31361 Filed 12-13-10; 8:45 am]

BILLING CODE 4210-67-P